DEPARTMENT OF THE INTERIOR

Fish and Wildlife Service

[FWS-R1-ES-2010-N133;10120-1113-0000-C4]

Endangered and Threatened Wildlife and Plants; 5-Year Status Reviews for Lomatium cookii (Cook's Lomatium) and Limnanthes floccosa ssp. grandiflora (Large-flowered Woolly Meadowfoam)

AGENCY: Fish and Wildlife Service, Interior.

ACTION: Notice of initiation of reviews; request for information.

SUMMARY: We, the U.S. Fish and Wildlife Service, are initiating 5-year reviews for two plant species in Oregon under the Endangered Species Act of 1973, as amended (Act). We request any new information on these species that may have a bearing on their classification as endangered. Based on the results of our 5-year reviews we will determine whether these species are properly classified under the Act.

DATES: To ensure consideration in our reviews, we are requesting submission of new information no later than November 1, 2010. However, we will continue to accept new information about any listed species at any time.

ADDRESSES: Submit information to: Field Supervisor, Attention: 5-Year Review, U.S. Fish and Wildlife Service, Oregon Fish and Wildlife Office, 2600 SE 98th Avenue, Suite 100, Portland, OR 97266. Information can also be submitted by e-mail to: fw1or5yearreview@fws.gov.

FOR FURTHER INFORMATION CONTACT: Jeff Dillon, U.S. Fish and Wildlife Service, Oregon Fish and Wildlife Office (see ADDRESSES), 503-231-6179. Individuals who are hearing impaired or speech impaired may call the Federal Relay Service at (800) 877-8337 for TTY assistance.

SUPPLEMENTARY INFORMATION:

I. Why do we conduct 5-year reviews?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Then, under section 4(c)(2)(B), we determine whether to remove any species from the List (delist), to reclassify it from endangered to threatened, to reclassify it from threatened to endangered, or to conclude that the current listing is appropriate. Any change in Federal classification requires a separate rulemaking process.

We use the following definitions, from 50 CFR 424.02, in our analysis of classification status:

(A) Species includes any species or subspecies of fish, wildlife, or plant, and any distinct population segment of any species of vertebrate, that interbreeds when mature;

(B) Endangered species means any species that is in danger of extinction throughout all or a significant portion of its range; and

(C) Threatened species means any species that is likely to become an endangered species within the foreseeable future throughout all or a significant portion of its range.

Our regulations at 50 CFR 424.21 require that we publish a notice in the Federal Register announcing the species we are reviewing.

II. What species are under review?

This notice announces our active review of Lomatium cookii (Cook's lomatium) and Limnanthes floccosa ssp. grandiflora (large-flowered woolly meadowfoam). These two plant species occur only in Oregon and were originally listed as endangered on November 7, 2002 (67 FR 68004).

III. What information do we consider in the review?

A 5-year review considers all new information available at the time of the review. In conducting these reviews, we consider the best scientific and commercial data that has become available since the listing determination or most recent status review, such as:

(A) Species biology, including, but not limited to, population trends, distribution, abundance, demographics, and genetics;

(B) Habitat conditions, including, but not limited to, amount, distribution, and suitability;

(C) Conservation measures that have been implemented that benefit the species;

(D) Threat status and trends (see five factors under heading “How Do We Determine Whether a Species is Endangered or Threatened?”); and

(E) Other new information, data, or corrections.

IV. How do we determine whether a species is endangered or threatened?

Section 4(a)(1) of the Act requires that we determine whether a species is endangered or threatened based on one or more of the five following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

Under section 4(b)(1) of the Act, we must base our assessment of these factors solely on the best scientific and commercial data available.

V. What could happen as a result of this review?

For each species under review, if we find new information indicating a change in classification is warranted, we may propose a new rule that could do one of the following:

(A) Reclassify the species from endangered to threatened (downlist); or

(B) Remove the species from the List (delist).

If we determine that a change in classification is not warranted, then the species remains on the List under its current status.

VI. Request for New Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

If you wish to provide information for any species included in these 5-year reviews, please submit your comments and materials to the Field Supervisor of the appropriate Fish and Wildlife Office (see ADDRESSES section).

VII. Public Availability of Comments

Before including your address, phone number, e-mail address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

VIII. Completed and Active Reviews

A list of all completed and currently active 5-year reviews addressing species for which the Pacific Region of the Service has lead responsibility is available at: http://www.fws.gov/pacific/ecoservices/endangered/recovery/5year.html.

IX. Authority

This document is published under the authority of the Endangered Species Act of 1973, as amended (16 U.S.C. 1531 et seq.).

Dated: July 19, 2010.
Theresa E. Rabot,
Acting Regional Director, Region 1, Fish and Wildlife Service.

[FR Doc. 2010-21919 Filed 9-1-10; 8:45 am]

BILLING CODE 4310-55-P